DEPARTMENT OF COMMERCE

International Trade Administration

Notice of Scope Rulings

AGENCY: Enforcement and Compliance, formerly Import Administration, International Trade Administration, Department of Commerce.

DATES: Effective Date: April 7, 2014.

SUMMARY: The Department of Commerce (“Department”) hereby publishes a list of scope rulings and anticircumvention determinations made between October 1, 2013, and December 31, 2013. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on February 3, 2014.² This current notice covers all scope rulings and anticircumvention determinations made by Enforcement and Compliance between October 1, 2013, and December 31, 2013, inclusive. Subsequent lists will follow after the close of each calendar quarter.

¹ See 19 CFR 351.225(o).

² See Notice of Scope Rulings, 79 FR 6165 (February 3, 2014).

Scope Rulings Made Between October 1, 2013 and December 31, 2013

People's Republic of China

A-570-967 and C-570-968: Aluminum Extrusions From the People's Republic of China

Requestor: Kam Kiu Aluminum Products Sdn. Bhd. and Taishan City Kam Kiu Aluminum Extrusion Co. Ltd. (collectively, Kam Kiu); Kam Kiu's subparts for elastomeric metal bushings for automotive vehicles are within the scope of the order because they meet the description of merchandise subject to the orders and none of the enumerated exceptions applies; November 21, 2013.

A-570-967 and C-570-968: Aluminum Extrusions From the People's Republic of China

Requestor: Traffic Brick Network, LLC; Traffic Brick's aluminum event décor parts and kits, specifically Pipe Kits and Pipe and Drape Kits, are not within the scope of the order because they are finished gods kits that contain at the time of importation all parts necessary to fully assemble a complete display structure, while the individual Gorilla Pipes (upright and crossbar aluminum extrusion tubes of varying models) are within the scope of the order because they are not kits that contain all parts necessary to fully assemble a complete display structure; December 2, 2013.

A-570-941 and C-570-942: Certain Kitchen Appliance Shelving and Racks From the People's Republic of China

Requestor: Thermo Fisher Scientific (Asheville) LLC; Thermo Fisher's wire racks used in laboratory equipment are within the scope of the orders because they fit the written description and dimensions of the scope language; December 19, 2013.

A-570-932: Certain Steel Threaded Rod From the People's Republic of China

Requestor: IMSS, LLC; IMSS's threaded rod is not within scope of the antidumping duty order because the threaded rod meets the specific exclusion requirements identified in the scope language of the order; October 22, 2013.

A-570-835: Furfuryl Alcohol From the People's Republic of China

Requestor: PennAKem LLC; The blending of 0.3 percent of silane coupling compound additive into furfuryl alcohol is insufficient to exclude a product from the scope of the order, as such, furfuryl alcohol to which up to 0.3 percent of silane by volume has been added prior to importation (i.e., a mixture of furfuryl alcohol and silane, of which the silane component comprises no more than 0.3 percent of the total volume of the blend), including but not limited to products with the trade name “Faint S,” is within the scope of the order; November 14, 2013.

A-570-970 and C-570-971: Multilayered Wood Flooring From the People's Republic of China

Requestor: Real Wood Floors, LLC; multilayered wood flooring imported by Real Wood Floors, LLC is within the scope of the antidumping and countervailing duty orders because the physical properties, the essential characteristic, and the end use of Real Wood Floors' rough lumber are significantly altered in the People's Republic of China, such that the imported product meets the physical description of merchandise covered by the antidumping and countervailing duty orders after being processed in the People's Republic of China; December 3, 2013.

A-570-504: Petroleum Wax Candles From the People's Republic of China

Requestor: HSE USA, Inc.; HSE's set of 10 candles is not within the scope of the antidumping duty order because the candles meet the definition for utility candles using the criteria set forth in 19 CFR 351.225(k)(2), as determined by the Department; December 13, 2013 (preliminary).

A-570-890: Wooden Bedroom From the People's Republic of China

Requestor: Whalen Furniture Manufacturing Inc.; Upholstered headboards are not within the scope of the antidumping duty order because they are completely upholstered and designed to work with metal bed frames; October 28, 2013.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: March 26, 2014.
Christian Marsh,
Deputy Assistant Secretary for Antidumping and Countervailing Duty Operations.

[FR Doc. 2014-07715 Filed 4-4-14; 8:45 am]

BILLING CODE 3510-DS-P